DEPARTMENT OF JUSTICE

Antitrust Division

Notice Pursuant to the National Cooperative Research and Production Act of 1993—Medical Technology Enterprise Consortium

Notice is hereby given that, on January 12, 2023, pursuant to Section 6(a) of the National Cooperative Research and Production Act of 1993, 15 U.S.C. 4301 et seq. (“the Act”), Medical Technology Enterprise Consortium (“MTEC”) has filed written notifications simultaneously with the Attorney General and the Federal Trade Commission disclosing changes in its membership. The notifications were filed for the purpose of extending the Act's provisions limiting the recovery of antitrust plaintiffs to actual damages under specified circumstances. Specifically, 3M Company, St. Paul, MN; Aeris LLC, Louisville, CO; Allogy LLC, Monument, CO; Applied Brain Research, Inc., Waterloo, Ontario, CAN; Beth Israel Deaconess Medical Center, Boston, MA; Career Haven LLC, Largo, MD; Charted Course LLC, Washington, DC; Cibao Cloud Technologies, Inc., Portsmouth, RI; ClearCoast USA LLC, St. Petersburg, FL; EdgeImpulse, Inc., San Jose, CA; EmergingDx, Inc., Mansfield, MA; Enterprise Resource Planning International LLC, Laurel, MD; First Nation Group LLC, Niceville, FL; Gothams LLC, Austin, TX; Hubly, Inc. dba Hubly Surgical, Evanston, IL; Inhance Digital Corp., Los Angeles, CA; JC3 LLC, Rockbridge Baths, VA; Life Elixir LLC, Irvine, CA; Medevac Foundation International, Alexandria, VA; Mendon Group LLC, Pittsford, NY; Neuromersive, Inc., Fort Worth, TX; ODSS Holdings, Greenville, SC; ORSA Technologies LLC, Scottsdale, AZ; Paladin Defense Services LLC, Nicholasville, KY; Red One Medical Devices LLC, Savannah, GA; Rockley Photonics, Pasadena, CA; RST-Sanexas, Las Vegas, NV; Southwest Texas Regional Advisory Council, San Antonio, TX; Texas A&M Engineering Experiment Station, Bryan, TX; The George Washington University, Washington, DC; The Regents of the University of California, Davis, CA; University of Missouri System, Columbia, MO; and University of South Florida, Tampa, FL have been added as parties to this venture.

Also, Eurofins ARCA Technology, Inc., Huntsville, AL, has withdrawn as a party to this venture.

No other changes have been made in either the membership or planned activity of the group research project. Membership in this group research project remains open, and MTEC intends to file additional written notifications disclosing all changes in membership.

On May 9, 2014, MTEC filed its original notification pursuant to Section 6(a) of the Act. The Department of Justice published a notice in the Federal Register pursuant to Section 6(b) of the Act on June 9, 2014 (79 FR 32999).

The last notification was filed with the Department on October 7, 2022. A notice was published in the Federal Register pursuant to Section 6(b) of the Act on November 8, 2022 (87 FR 67494).

Suzanne Morris,
Deputy Director, Civil Enforcement Operations, Antitrust Division.

[FR Doc. 2023-06182 Filed 3-24-23; 8:45 am]

BILLING CODE 4410-11-P